CONSUMER PRODUCT SAFETY COMMISSION

Agency Information Collection Activities; Submission for Office of Management and Budget Review; Comment Request; Safety Standard for Bicycle Helmets

AGENCY: Consumer Product Safety Commission.

ACTION: Notice.

SUMMARY: The Consumer Product Safety Commission (“CPSC” or “Commission”) is announcing that a proposed collection of information has been submitted to the Office of Management and Budget (“OMB”) for review and clearance under the Paperwork Reduction Act of 1995 (“PRA”).

DATES: Fax written comments on the collection of information by October 1, 2010.

ADDRESSES: To ensure that comments on the information collection are received, OMB recommends that written comments be faxed to the Office of Information and Regulatory Affairs, OMB, Attn: CPSC Desk Officer, Fax: 202-395-6974, or e-mailed to oira_submission@omb.eop.gov. Written comments should be captioned “Safety Standard for Bicycle Helmets.” All comments should be identified with the OMB Control Number 3041-0127. In addition, written comments should also be submitted by mail/hand delivery/courier (for paper, disk, or CD-ROM submissions), preferably in five copies, to: Office of the Secretary, Consumer Product Safety Commission, Room 820, 4330 East West Highway, Bethesda, MD 20814; telephone (301) 504-7923.

FOR FURTHER INFORMATION CONTACT: Linda Glatz, Division of Policy and Planning, Office of Information Technology, Consumer Product Safety Commission, 4330 East West Highway, Bethesda, MD 20814, 301-504-7671, lglatz@cpsc.gov.

SUPPLEMENTARY INFORMATION: In compliance with 44 U.S.C. 3507, the CPSC has submitted the following proposed collection of information to OMB for review and clearance.

Safety Standard for Bicycle Helmets—(OMB Control Number 3041-0127-Extention). In 1994, Congress passed the “Child Safety Protection Act,” which, among other things, included the “Children's Bicycle Helmet Safety Act of 1994” Public Law 103-267, 108 Stat. 726. This law directed the Commission to issue a final standard applicable to bicycle helmets that would replace several existing voluntary standards with a single uniform standard that would include provisions to protect against the risk of helmets coming off the heads of bicycle riders, address the risk of injury to children, and cover other issues as appropriate. The Commission issued the final bicycle helmet standard in 1998. It is codified at 16 CFR Part 1203. The standard requires all bicycle helmets manufactured after March 10, 1999, to meet impact-attenuation and other requirements. The standard also contains testing and recordkeeping requirements to ensure that bicycle helmets meet the standard's requirements. Certification regulations implementing the standard require manufacturers, importers, and private labelers of bicycle helmets subject to the standard to: (1) Perform tests to demonstrate that those products meet the requirements of the standard; (2) maintain records of those tests; and (3) affix durable labels to the helmets stating that the helmet complies with the applicable standard. The certification regulations are codified at 16 CFR part 1203, subpart B. On September 2, 2009, the Commission issued a notice of requirements that provides the criteria and process for Commission acceptance of accreditation of third party conformity assessment bodies for testing bicycle helmets that are considered children's products under the Consumer Product Safety Act (74 FR 45428).

The Commission uses the information compiled and maintained by manufacturers, importers, and private labelers of bicycle helmets subject to the standard to help protect the public from risks of injury or death associated with head injury associated with bicycle riding. More specifically, this information helps the Commission determine whether bicycle helmets subject to the standard comply with all applicable requirements. The Commission also uses this information to obtain corrective actions if bicycle helmets fail to comply with the standard in a manner that creates a substantial risk of injury to the public.

In the Federal Register of May 18, 2010 (75 FR 27734), the CPSC published a 60-day notice requesting public comment on the proposed collection of information. One comment was received. The commenter did not address the collection of information burdens. Instead, the commenter states that the collection of information should not be approved because it would delay implementation of bicycle helmet safety.

The commenter has misunderstood the purpose of the collection of information. The standard has been in effect since 1999, and continues to be in effect. The collection of information addresses the testing, certification, and recordkeeping requirements that are required to ensure that the standard's requirements are met.

We estimate the burden of this collection of information as follows. Approximately 30 firms manufacture or import bicycle helmets subject to the standard. There are an estimated 200 different models of bicycle helmets currently marketed in the United States. The Commission staff estimates that the time required to comply with the collection of information requirements is approximately 100 to 150 hours per model per year. The total amount of time estimated for compliance with these requirements for testing, including third-party testing for children's bicycle helmets, certification, and recordkeeping will be 20,000 to 30,000 hours per year (200 models × 100 to 150 hours/model = 20,000 to 30,000 hours). The annualized cost to respondents for the hour burden for collection of information is $1,138,600 to $1,707,000 based on 20,000 to 30,000 hours times $56.93 per hour (based on total compensation of all civilian workers in managerial and professional positions in the United States, September 2009, Bureau of Labor Statistics).

The estimated expenditure to the Federal government is approximately $83,000 which includes 10 staff months and travel costs expended for examination of the information in records required to be maintained by the standard and implementing regulations.

Dated: August 26, 2010.
Alberta Mills,
Acting Secretary, Consumer Product Safety Commission.

[FR Doc. 2010-21892 Filed 8-31-10; 8:45 am]

BILLING CODE 6355-01-P